DEPARTMENT OF THE INTERIOR

National Park Service

[NPS-WASO-NAGPRA-19769; PPWOCRADN0-PCU00RP14.R50000]

Notice of Inventory Completion: University of Hawaii at Hilo, Hilo, HI

AGENCY: National Park Service, Interior.

ACTION: Notice.

SUMMARY: The University of Hawaii at Hilo has completed an inventory of human remains in consultation with the appropriate Indian tribes or Native Hawaiian organizations and has determined that there is a cultural affiliation between the human remains and present-day Indian tribes or Native Hawaiian organizations. Lineal descendants or representatives of any Indian tribe or Native Hawaiian organization not identified in this notice that wish to request transfer of control of these human remains should submit a written request to the University of Hawaii at Hilo. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the University of Hawaii at Hilo at the address in this notice by February 8, 2016.

ADDRESSES: Peter R. Mills, Department of Anthropology, Social Sciences Division, 200 W. Kawili Street, Hilo, HI 96720-4091.

SUPPLEMENTARY INFORMATION: Notice is here given in accordance with the Native American Graves Protection and Repatriation Act (NAGPRA), 25 U.S.C. 3003, of the completion of an inventory of human remains under the control of the University of Hawaii at Hilo, Hilo, HI. The human remains were removed from Kamā'oa Pu'u'eo, Kaū District, Hawai'i Island, HI.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Hawaii at Hilo professional staff, in consultation with representatives of The Hawai'i Island Burial Council, Department of Hawaiian Homelands, Office of Hawaiian Affairs, Hui Malama i Nā Kūpuna o Hawai'i Nei, Aha Moku Advisory Committee, and the Hawaiian Civic Club of Ka'ū.

History and Description of the Remains

In the 1950s, human remains representing, at minimum, three individuals were removed from the Pu'u Ali'i Sand Dune Site (site H1) in Kamau'oa Pu'u'eo ahupua'a, in the district of Ka'ū, Hawai'i Island, State of Hawai'i, under the direction of Professor William Bonk at the University of Hawaii at Hilo. These human remains were identified in bags of midden deposit in the summer of 2014, which had been stored with the other excavated material from the site at University of Hawaii at Hilo until the present time. No known individuals were identified. No associated funerary objects are present.

The Pu'u Ali'i Sand Dune site is a Native Hawaiian fishing village and cemetery dating to pre-European contact.

Determinations Made by the University of Hawaii at Hilo

Officials of the University of Hawaii at Hilo have determined that:

• Pursuant to 25 U.S.C. 3001(9), the human remains described in this notice represent the physical remains of three individuals of Native American ancestry.

• Pursuant to 25 U.S.C. 3001(2), there is a relationship of shared group identity that can be reasonably traced between the Native American human remains and Aha Moku Advisory Committee (Moku o Keawe), the Hawaiian Civic Club of Ka'ū, and the Office of Hawaiian Affairs.

Additional Requestors and Disposition

Lineal descendants or representatives of any Indian tribe or Native Hawaiian organization not identified in this notice that wish to request transfer of control of these human remains should submit a written request with information in support of the request to Peter R. Mills, Department of Anthropology, Social Sciences Division, 200 W. Kawili Street, Hilo, HI 96720-4091, by February 8, 2016. After that date, if no additional requestors have come forward, transfer of control of the human remains to Aha Moku Advisory Committee (Moku o Keawe), the Hawaiian Civic Club of Ka'ū, and the Office of Hawaiian Affairs may proceed.

The University of Hawaii at Hilo is responsible for notifying the The Hawai'i Island Burial Council, Department of Hawaiian Homelands, Office of Hawaiian Affairs, Aha Moku Advisory Committee, and the Hawaiian Civic Club of Ka'ū that this notice has been published.

Dated: December 11, 2015.
Amberleigh Malone,
Acting Manager, National NAGPRA Program.

[FR Doc. 2016-00055 Filed 1-6-16; 8:45 am]

BILLING CODE 4312-50-P